DEPARTMENT OF DEFENSE

Department of the Army; Corps of Engineers

Intent To Prepare a Draft Supplemental Environmental Impact Statement for Development of a Long-Term Sediment Management Plan of the Mount St. Helens Sediment Retention Structure in the North Fork Toutle River

AGENCY: Department of the Army, U.S. Army Corps of Engineers, DOD.

ACTION: Notice of intent.

SUMMARY: The U.S. Army Corps of Engineers, Portland District, intends to prepare a Draft Supplemental Environmental Impact Statement (DSEIS) to assess impacts associated with alternatives for the long-term management of the existing Mount St. Helens (MSH) Sediment Retention Structure (SRS) located at river mile 13.2 of the North Fork Toutle River. The MSH SRS is a single-purpose structure constructed in 1987-1989 to trap and control downstream movement of volcanic sediments eroding from the debris avalanche of Mount St. Helens. The purpose of the long-term management of the existing MSH SRS is to continue to provide flood damage reduction benefits to downstream communities along the Cowlitz River including Longview, Kelso, Castle Rock, and Lexington, Washington.

DATES: A Draft Supplemental Environmental Impact Statement is expected to be available for public review and comment in 2013.

FOR FURTHER INFORMATION CONTACT: Mr. Tim Kuhn, at the U.S. Army Corps of Engineers, Portland District, P.O. Box 2946, Portland, OR 97204, by phone at 503-808-4752 or email: Timothy.s.kuhn@usace.army.mil.

SUPPLEMENTARY INFORMATION: Announcement is made by the U.S. Army Corps of Engineers, Portland District (Corps), that a DSEIS will be developed to address environmental changes that have occurred since the original EIS was published in December 1984. The Water Resources Development Act of 2000, Section 339, authorized the Corps to maintain the flood damage reduction benefits through the end of the Mount St. Helens project planning period, which is 2035. The originally authorized work is described in the October 1985 report of the Chief of Engineers titled, Mount St. Helens, Washington, Decision Document (Toutle, Cowlitz, and Columbia Rivers), published as House Document No. 135, 99th Congress. Continued work on the Mount St. Helens project will be accomplished under the existing open construction project that was authorized in August 1985. The State of Washington is the non-federal sponsor of the project, and cost-sharing requirements are outlined in a 1986 Local Cooperation Agreement between the Department of the Army and State of Washington and Cowlitz County diking districts.

Scoping Process: a. The Corps of Engineers invites affected Federal, State, and local agencies, Native American tribes, and other interested organizations and individuals to participate in the development of the DSEIS. The Corps of Engineers anticipates conducting a public scoping meeting for this DSEIS in early 2013. The exact date, time, and location of this meeting have not yet been determined. This information will be publicized once the meeting arrangements have been made. The Corps will provide notice to the public of additional opportunities for public input on the SEIS during review periods for the draft and final SEIS.

b. Significant issues to be analyzed in depth in the DSEIS include alternatives for managing estimated volumes of sediment (sediment decay rate), potential impacts to fish and wildlife, and potential impacts to tributaries of the North Fork Toutle River, associated wetlands, and potential impacts to downstream waterways including the Cowlitz River.

c. The Corps will serve as the lead Federal agency in preparation of the DSEIS. The Corps intends to coordinate and/or consult with Federal and State agencies, as well as interested Native American Tribes during the scoping and preparation of the DSEIS. A decision will be made during the scoping process whether other agencies and/or Tribes will serve in an official role as Cooperating Agencies.

Dated: December 7, 2012.
John W. Eisenhauer,
Colonel, Corps of Engineers, District Commander.

[FR Doc. 2012-30847 Filed 12-20-12; 8:45 am]

BILLING CODE 3720-58-P